ENVIRONMENTAL PROTECTION AGENCY

[EPA-HQ-OPP-2012-0390; FRL-9358-2]

Pesticide Products; Receipt of Applications To Register New Uses

AGENCY: Environmental Protection Agency (EPA).

ACTION: Notice.

SUMMARY: This notice announces receipt of applications to register new uses for pesticide products containing currently registered active ingredients, pursuant to the provisions of section 3(c) of the Federal Insecticide, Fungicide, and Rodenticide Act (FIFRA), as amended. EPA is publishing this Notice of such applications, pursuant to section 3(c)(4) of FIFRA.

DATES: Comments must be received on or before September 21, 2012.

ADDRESSES: Submit your comments, identified by docket identification (ID) number EPA-HQ-OPP-2012-0390 by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), Mail Code: 28221T, 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: A contact person is listed at the end of each registration application summary and may be contacted by telephone or email. The mailing address for each contact person listed is Registration Division (7505P), Office of Pesticide Programs, Environmental Protection Agency, 1200 Pennsylvania Ave. NW., Washington, DC 20460-0001.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number). If you are commenting on a docket that addresses multiple products, please indicate to which registration number(s) your comment applies. If you are commenting on a docket that addresses multiple products, please indicate to which registration number(s) your comment applies.

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal

threats.

viii. Make sure to submit your comments by the comment period deadline identified.

II. Registration Applications for New Uses

EPA received applications as follows to register pesticide products containing currently registered active ingredients pursuant to the provisions of section 3(c) of FIFRA, and is publishing this Notice of such applications pursuant to section 3(c)(4) of FIFRA. Notice of receipt of these applications does not imply a decision by the Agency on the applications.

1. Registration File Symbol: 100-RURR. Docket Number: EPA-HQ-OPP-2011-0665. Applicant: Syngenta Crop Protection, LLC., P.O. Box 18300, Greensboro, NC 27419-8300. Active ingredient: Emamectin benzoate. Product Type: Insecticide. Proposed Uses: Outdoor commercial ornamental nursery production. Contact: Thomas Harris, (703) 308-9423, email address: harris.thomas@epa.gov.

2. Registration Numbers: 100-526, 100-541, and 100-603. Docket Number: EPA-HQ-OPP-2012-0301. Applicant: Syngenta Crop Protection, LLC., P.O. Box 18300, Greensboro, NC 27419-8300. Active ingredient: Simazine. Product Type: Herbicide. Proposed Uses: Citrus fruits (crop group 10), pome fruits (crop group 11), stone fruits (crop group 6) and tree nuts (crop group 14, except almond hulls). Contact: Hope Johnson, (703) 305-5410, email address: johnson.hope@epa.gov.

3. Registration Numbers: 100-902 and 100-904. Docket Number: EPA-HQ-OPP-2011-0665. Applicant: Syngenta Crop Protection, LLC., P.O. Box 18300, Greensboro, NC 27419-8300. Active ingredient: Emamectin benzoate. Product Type: Insecticide. Proposed Uses: Vegetable, cucurbit, group 9. Contact: Thomas Harris, (703) 308-9423, email address: harris.thomas@epa.gov.

4. Registration Numbers: 264-748 and 264-752. Docket Number: EPA-HQ-OPP-2012-0427. Applicant: Bayer CropScience LP., P.O. Box 12014, 2 T. W. Alexander Drive, Research Triangle Park, NC 27709. Active ingredient: Tebuconazole. Product Type: Fungicide. Proposed Use: Fruiting vegetables (group 8-10). Contact: Heather Garvie, (703) 308-0034, email address: garvie.heather@epa.gov.

5. Registration Numbers: 352-594, 352-597, 352-638, and 352-640. Docket Number: EPA-HQ-OPP-2012-0420. Applicant: DuPont Crop Protection, Stine-Haskell Research Center, P.O. Box 30, Newark, NJ 19714-0030. Active ingredient: Indoxacarb. Product Type: Insecticide. Proposed Uses: Dry bean, snap bean, small fruit vine climbing (subgroup 13-07F), low growing berry (subgroup 13-07H). Contact: Julie Chao, (703) 308-8735, email address: chao.julie@epa.gov.

6. Registration Numbers: 400-461, 400-466, and 400-487. Docket Number: EPA-HQ-OPP-2012-0515. Applicant: Chemtura Corporation, 199 Benson Road, Middlebury, CT 06749. Active ingredient: Diflubenzuron. Product Type: Insecticide. Proposed Use: Citrus (crop group 10-09). Contact: Autumn Metzger, (703) 305-5314, email address: metzger.autumn@epa.gov.

7. Registration File Symbol: 524-ANO. Docket Number: EPA-HQ-OPP-2012-0545. Applicant: Monsanto, 1300 I St., NW., Suite 450 East, Washington, DC 20005. Active ingredient: Dicamba. Product Type: Herbicide. Proposed Use: Dicamba-tolerant MON 87708 Soybeans. Contact: Michael Walsh, (703) 308-2972, email address: walsh.michael@epa.gov.

8. Registration Numbers: 5481-219 and 5481-430. Docket Number: EPA-HQ-OPP-2012-00203. Applicant: Amvac Chemical Company, 4695 MacArthur Court, Suite 1200, Newport Beach, CA 92660-1706. Active ingredient: 1-Naphthalenacetic Acid. Product Type: Fungicide. Proposed Uses: Avocado, mamey sapote, mango, rambutan; and pome fruit group 11-10. Contact: Rosemary Kearns, (703) 305-5611, email address: kearns.rosemary@epa.gov.

9. Registration Numbers: 5481-433 and 5481-533. Docket Number: EPA-HQ-OPP-2012-0203. Applicant: Amvac Chemical Company, 4695 MacArthur Court, Suite 1200, Newport Beach, CA 92660-1706. Active ingredient: 1-Naphthalenacetic Acid, Ethyl Ester. Product Type: Fungicide. Proposed Uses: Avocado, mamey sapote, mango, rambutan; and pome fruit group 11-10. Contact: Rosemary Kearns, (703) 305-5611, email address: kearns.rosemary@epa.gov.

10. Registration Number: 5481-541. Docket Number: EPA-HQ-OPP-2012-0203. Applicant: Amvac Chemical Company, 4695 MacArthur Court, Suite 1200, Newport Beach, CA 92660-1706. Active ingredient: 1-Naphthalenacetic Acid, Sodium Salt. Product Type: Fungicide. Proposed Uses: Avocado, mamey sapote, mango, rambutan; and pome fruit group 11-10. Contact: Rosemary Kearns, (703) 305-5611, email address: kearns.rosemary@epa.gov.

11. Registration File Symbol: 7969-GUL. Docket Number: EPA-HQ-OPP-2012-0492. Applicant: BASF Corporation, P.O. Box 13528, 26 Davis Drive, Research Triangle Park, NC 27709. Active ingredient: Dicamba. Product Type: Herbicide. Proposed Uses: Dicamba-tolerant MON 87708 Soybeans; and conventional crops, including asparagus, corn (field, seed, silage, and popcorn), cotton (conventional), grass grown for seed, proso millet, pasture hay, rangeland, farmstead (non-cropland), farmstead turf (non-cropland), Conservation Reserve Program, small grains (barley, oats, triticale, and wheat), sorghum, soybean (conventional), sugarcane, and sod farms. Contact: Michael Walsh, (703) 308-2972, email address: walsh.michael@epa.gov.

12. Registration Numbers: 7969-185, 7969-186, 7969-247, 7969-258, 7969-289, and 7969-291. Docket Number: EPA-HQ-OPP-2012-0549. Applicant: BASF Corporation, P.O. Box 13528, 26 Davis Drive, Research Triangle Park, NC 27709. Active ingredient: Pyraclostrobin. Product Type: Fungicide. Proposed Use: Sugarcane. Contact: Dominic Schuler, (703) 347-0260, email address: schuler.dominic@epa.gov.

13. Registration Numbers: 59639-154 and 59639-166. Docket Number: EPA-HQ-OPP-2012-0419. Applicant: Valent U.S.A. Corporation, 1600 Riviera Ave., Suite 200, Walnut Creek, CA 94596. Active ingredient: Imazosulfuron. Product Type: Herbicide. Proposed Uses: Melons (cantaloupe, citron melon, muskmelon, watermelon); and vegetables, tuberous and corm (arracacha, arrowroot, Chinese artichoke, Jerusalem artichoke, edible Canna, bitter cassava, sweet cassava, chayote (root), chufa, dasheen, ginger, leren, potato, sweet potato, tanier, turmeric, yam bean, and true yam). Contact: Mindy Ondish, (703) 605-0723, email address: ondish.mindy@epa.gov.

14. Registration Number: 62719-407. Docket Number: EPA-HQ-OPP-2012-0480. Applicant: Dow AgroSciences LLC., 9330 Zionsville Road, Indianapolis, IN 46268. Active ingredient: Myclobutanil. Product Type: Fungicide. Proposed Use: Formulation use into fungicide products. Contact: Marcel Howard, (703) 305-6784, email address: howard.marcel@epa.gov.

15. Registration Number: 62719-410. Docket Number: EPA-HQ-OPP-2012-0480. Applicant: Dow AgroSciences LLC, 9330 Zionsville Road, Indianapolis, IN 46268. Active ingredient: Myclobutanil. Product Type: Fungicide. Proposed Use: Grass grown for hay and forage. Contact: Marcel Howard, (703) 305-6784, email address: howard.marcel@epa.gov.

16. Registration Numbers: 63588-91, 63588-92, and 63588-93. Docket Number: EPA-HQ-OPP-2012-0439. Applicant: K-I Chemical U.S.A., Inc., c/o Landis International, Inc., 3185 Madison Highway, P.O. Box 5126, Valdosta, GA 31603-5126. Active ingredient: Pyroxasulfone. Product Type: Herbicide. Proposed Use: Wheat. Contact: Michael Walsh, (703) 308-2972, email address: walsh.michael@epa.gov.

17. Registration Numbers: 63588-91, 63588-92, and 63588-93. Docket Number: EPA-HQ-OPP-2012-0514. Applicant: K-I Chemical U.S.A., Inc., c/o Landis International, Inc., 3185 Madison Highway, P.O. Box 5126, Valdosta, GA 31603-5126. Active ingredient: Pyroxasulfone. Product Type: Herbicide. Proposed Use: Cotton. Contact: Michael Walsh, (703) 308-2972, email address: walsh.michael@epa.gov.

18. Registration Numbers: 66330-64 and 66330-65. Docket Number: EPA-HQ-OPP-2012-0576. Applicant: Syngenta Crop Protection, LLC., P.O. Box 18300, Greensboro, NC 27419-8300. Active ingredient: Fluoxastrobin. Product Type: Fungicide. Proposed Uses: Melon, subgroup 9A; and sorghum. Contact: Heather Garvie, (703) 308-0034, email address: garvie.heather@epa.gov.

19. Registration File Symbol: 70506-EOA. Docket Number: EPA-HQ-OPP-2012-0431. Applicant: United Phosphorus, Inc., 630 Freedom Business Center, Suite 402, King of Prussia, PA 19406. Active ingredient: Endothall (dipotassium salt). Product Type: Herbicide. Proposed Use: Apples. Contact: Grant Rowland, (703) 347-0254, email address: rowland.grant@epa.gov.

List of Subjects

Environmental protection, Pesticides and pest.

Dated: August 14, 2012.
Daniel J. Rosenblatt,
Acting Director, Registration Division, Office of Pesticide Programs.

[FR Doc. 2012-20666 Filed 8-21-12; 8:45 am]

BILLING CODE 6560-50-P